FEDERAL RESERVE SYSTEM

Sunshine Act; Meeting

Agency Holding the Meeting: Board of Governors of the Federal Reserve System Federal Register Citation of Previous Announcement:

66 FR 65213, December 18, 2001.

Previously Announced Time and Date of the Meeting: 10 a.m., Wednesday, December 19, 2001.

Changes in the Meeting: The open meeting has been canceled, and the scheduled items were handled via telephone vote.

Contact Person for More Information: Michelle A. Smith, Assistant to the Board; 202-452-3204.

Supplementary Information: You may call 202-452-3206 for a recorded announcement of this meeting; or you may contact the Board's Web site at http://www.federalreserve.gov for an electronic announcement. (The web site also includes procedural and other information about the open meeting.)

Dated: December 19, 2001.
Robert deV. Frierson,
Deputy Secretary of the Board.

[FR Doc. 01-31577 Filed 12-19-01; 11:10 am]

BILLING CODE 6210-01-P